DEPARTMENT OF HOMELAND SECURITY

Office of the Secretary

Designation of the Electronic Employment Eligibility Verification System Under Executive Order 12989, as Amended by the Executive Order Entitled “Amending Executive Order 12989, as Amended” of June 6, 2008

AGENCY: Office of the Secretary, DHS.

ACTION: Notice.

SUMMARY: This notice announces that the Secretary of Homeland Security has designated the E-Verify system, operated by U.S. Citizenship and Immigration Services in partnership with the Social Security Administration, as the electronic employment eligibility verification system to be used by Federal contractors, pursuant to Executive Order 12989, as amended by the Executive Order entitled “Amended Executive Order 12989, as Amended” of June 6, 2008.

DATES: This designation is effective immediately.

Designation

Executive Order 12989, as amended by the Executive Order entitled “Amended Executive Order 12989, as Amended” of June 6, 2008, instructs Federal departments and agencies that enter into contracts to require, as a condition of each contract, that the contractor agree to use an electronic employment eligibility verification system designated by the Secretary of Homeland Security to verify the employment eligibility of all persons hired during the contract term by the contractor to perform employment duties within the United States, and all persons assigned by the contractor to perform work within the United States on the Federal contract.

Pursuant to that Executive Order, I hereby designate the E-Verify system, modified as necessary and appropriate to accommodate the policy set forth in the Executive Order entitled “Amended Executive Order 12989, as Amended” and the implementation of that Executive Order by the Secretary of Defense, the Administrator of General Services, and the Administrator of the National Aeronautics and Space Administration, as the electronic employment eligibility verification system to be used by Federal contractors.

Dated: June 9, 2008.
Michael Chertoff,
Secretary, Department of Homeland Security.

[FR Doc. E8-13294 Filed 6-12-08; 8:45 am]

BILLING CODE 9111-97-P